DEPARTMENT OF VETERANS AFFAIRS

38 CFR Part 17

[Docket VA-2025-VHA-0007]

RIN 2900-AS29

Expansion of VA Process for 72-Hour Notification of Emergency Treatment

AGENCY: Department of Veterans Affairs.

ACTION: Proposed rule.

SUMMARY: The Department of Veterans Affairs (VA) proposes to revise its medical regulations to add a new method of notification for emergency treatment that is furnished by community providers to be authorized under the Veterans Community Care Program.

DATES: Comments must be received on or before September 22, 2025.

ADDRESSES: You may submit comments through www.regulations.gov under RIN 2900-AS29. That website includes a plain-language summary of this rulemaking. Instructions for accessing agency documents, submitting comments, and viewing the rulemaking docket are available on www.regulations.gov under “FAQ.”

FOR FURTHER INFORMATION CONTACT: Joseph Duran, Veterans Health Administration, (303) 370-1637.

SUPPLEMENTARY INFORMATION: On June 6, 2018, the President signed into law the John S. McCain III, Daniel K. Akaka, and Samuel R. Johnson VA Maintaining Internal Systems and Strengthening Integrated Outside Networks (MISSION) Act of 2018 (Pub. L. 115-182). Section 101 of the MISSION Act amended 38 U.S.C. 1703 by requiring VA to implement a Veterans Community Care Program (VCCP) to furnish required hospital care, medical services, and extended care services to covered veterans through non-VA entities and providers who meet eligibility criteria to provide care under VCCP. On February 22, 2019, VA published a proposed rule to establish regulations for the VCCP. 84 FR 5629. In that proposed rule, VA sought to establish a regulation at 38 CFR 17.4020(c) to establish the required criteria for VA to authorize emergency treatment as defined in 38 U.S.C. 1725(h)(1) under the VCCP after the veteran had already received such care. 84 FR 5640. We proposed that VA would consider emergency treatment as authorized under the VCCP if notice of such treatment was provided to the appropriate VA official at the nearest VA facility within 72 hours, and in accordance with other requirements proposed in 38 CFR 17.4020(c). 84 FR 5640. For purposes of this rulemaking, the term “emergency treatment” and “emergency care” are synonymous. In a final rule published on June 6, 2019, VA responded to the commenters who urged VA to establish a nationwide system, such as an online portal and national call center, where all emergency care matters under the VCCP would be administered. 84 FR 26303. VA stated that it would not make any changes to the regulation based on those comments because local facilities were in the best position to assess criteria related to the appropriateness of authorizing emergency care. Id.

In March 2020, VA began to allow veterans, veteran's representatives, and eligible entities or providers to contact VA within 72 hours through a centralized notification process. Notification of emergency treatment was centralized through a contracted call center. In June 2020, VA began to accept notifications from external fax, a shared email group, a call center, and from a VA facility. In December 2020, a new web-based tool was launched called the Emergency Care Reporting (ECR) Portal which allowed providers, veterans, or their representatives to report emergent episodes of care. In March 2021, VA limited the methods of notifications to the ECR Portal, the Centralized Call Center, or to the closest VA facility. The additional methods of emergency care reporting have been successful, with the ECR Portal alone receiving between 150,000-170,000 notifications per month.

VA is therefore proposing to revise 38 CFR 17.4020(c)(4)(i) to amend the requirement that notice be provided to the appropriate VA official at the nearest VA facility by adding that notice can also be provided through the centralized notification process. Although the centralized process is more administratively efficient and beneficial to veterans and local VA facilities, VA proposes to maintain the current method of contacting the appropriate VA official at the nearest VA facility as a valid method of providing 72-hour notice to avoid confusion for veterans and providers or eligible entities who are accustomed to and prefer the current method of notification. In instances when notification is provided to the nearest VA facility, the local facility staff would submit the notification information to the Centralized Call Center or the ECR Portal for processing, as they do now. This maintains centralized processing. In addition, the local staff would provide the veteran, veteran's representative, or provider information on how to utilize the centralized notification process and encourage them to use it in the future.

VA also proposes to amend § 17.4020(c)(4)(i) to include that information on the centralized notification process would be accessible through VA's website at www.va.gov. The current web page is located on the Community Care section of the website and provides the Centralized Call Center telephone number, 844-72HRVHA or 844-724-7842, along with the ECR Portal website at https://emergencycarereporting.communitycare.va.gov/request, and any additional program details or updates. However, in the regulation, we propose to merely reference the general VA website to permit for flexibility if the location of the specific information changes or there are changes to the phone number or website.

Executive Orders 12866, 13563, and 14192

VA examined the impact of this rulemaking as required by Executive Orders 12866 (Sept. 30, 1993) and 13563 (Jan. 18, 2011), which direct agencies to assess all costs and benefits of available regulatory alternatives and, if regulation is necessary, to select regulatory approaches that maximize net benefits. The Office of Information and Regulatory Affairs has determined that this rulemaking is not a significant regulatory action under Executive Order 12866, as supplemented by Executive Order 13563. This proposed rule is expected to be a deregulatory action under Executive Order 14192. The Regulatory Impact Analysis associated with this rulemaking can be found as a supporting document at www.regulations.gov.

Regulatory Flexibility Act

The Secretary hereby certifies that this proposed rule would not have a significant economic impact on a substantial number of small entities as they are defined in the Regulatory Flexibility Act, 5 U.S.C. 601-612. This proposed rule adds a method for veterans, their representatives, and eligible entities or providers to contact VA for determination of whether emergency treatment can be authorized under the VCCP after the veteran has received such care. It will not have a substantial economic impact on small entities because it merely provides for an additional method of notification. Therefore, pursuant to 5 U.S.C. 605(b), the initial and final regulatory flexibility analysis requirements of 5 U.S.C. 603 and 604 do not apply.

Unfunded Mandates

This proposed rule would not result in the expenditure by State, local, and tribal governments, in the aggregate, or by the private sector, of $100 million or more (adjusted annually for inflation) in any one year.

Paperwork Reduction Act

Although this proposed rule contains collection of information under the provisions of the Paperwork Reduction Act of 1995 (44 U.S.C. 3501-3521), there are no provisions associated with this rulemaking constituting any new collection of information or any revisions to the existing collection of information. The collection of information for 38 CFR 17.4020 is currently approved by the Office of Management and Budget (OMB) and has a valid OMB control number of 2900-0823.

List of Subjects in 38 CFR Part 17

Administrative practice and procedure, Alcohol abuse, Alcoholism, Claims, Dental health, Drug abuse, Government contracts, Health care, Health facilities, Health records, Homeless, Mental health programs, Nursing homes, Philippines, Reporting and recordkeeping requirements, Scholarships and fellowships, Travel and transportation expenses, Veterans.

Signing Authority

Douglas A. Collins, Secretary of Veterans Affairs, approved this document on July 14, 2025, and authorized its submission to the Office of the Federal Register for publication electronically as an official document of the Department of Veterans Affairs.

Taylor N. Mattson,
Alternate Federal Register Liaison Officer, Department of Veterans Affairs.

For the reasons set forth in the preamble, the Department of Veterans Affairs proposes to amend 38 CFR part 17 as follows:

PART 17—MEDICAL

1. The authority citation for part 17 continues to read as follows:

Authority: 38 U.S.C. 501, and as noted in specific sections.

* * * * *

2. Amend § 17.4020 by revising paragraph (c)(4) to read as follows:

§ 17.4020 Authorized non-VA care.

* * * * *

(c) * * *

(4) Notice to VA must:

(i) Be made to the appropriate VA official at the nearest VA facility or by using the centralized notification process. Information on the centralized notification process will be accessible through VA's website at www.va.gov;

(ii) Identify the covered veteran; and

(iii) Identify the eligible entity or provider.

* * * * *

[FR Doc. 2025-13751 Filed 7-21-25; 8:45 am]

BILLING CODE 8320-01-P